DEPARTMENT OF ENERGY

Federal Energy Regulatory Commission

[Docket No. MG00-6-008]

Dominion Transmission, Inc.; Notice of Filing

April 18, 2001.

Dominion Transmission, Inc. filed a supplement to its January 23, 2001 revised standards of conduct that responded to the Commission's December 15, 2000 Order. 93 FERC ¶ 61,284 (2000).

Dominion Transmission, Inc. states that it sent copies of its filing to all parties on the service list.

Any person desiring to be heard or to protest said filing should file a motion to intervene or protest in this proceeding with the Federal Energy Regulatory Commission, 888 First Street, NE., Washington, DC 20426, in accordance with Rules 211 or 214 of the Commission's Rules of Practice and Procedure (18 CFR 385.211 or 385.214). All such motions to intervene or protest should be filed on or before May 3, 2001. Protests will be considered by the Commission in determining the appropriate action to be taken but will not serve to make protestants parties to the proceeding. Any person wishing to become a party must file a motion to intervene. Copies of these filings are on file with the Commission and are available for public inspection. This filing may be viewed on the web at http://www.ferc.fed.us/online/rims.htm (call 202-208-2222 for assistance). Comments, protests and interventions may be filed electronically via the internet in lieu of paper. See, 18 CFR 385.2001(a)(1)(iii) and the instructions on the Commission's web site at ­ http://www.ferc.fed.us/efi/doorbell.htm.

David P. Boergers,
Secretary.

[FR Doc. 01-10039 Filed 4-23-01; 8:45 am]

BILLING CODE 6717-07-M